DEPARTMENT OF EDUCATION

[Docket No.: ED-2025-SCC-0647]

Agency Information Collection Activities; Comment Request; Federal Student Aid (FSA) Feedback System

AGENCY: Federal Student Aid (FSA), Department of Education (ED).

ACTION: Notice.

SUMMARY: In accordance with the Paperwork Reduction Act (PRA) of 1995, the Department is proposing a reinstatement with change to a previously approved information collection request (ICR).

DATES: Interested persons are invited to submit comments on or before November 10, 2025.

ADDRESSES: To access and review all the documents related to the information collection listed in this notice, please use http://www.regulations.gov by searching the Docket ID number ED-2025-SCC-0647. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to Carolyn Rose, U.S. Department of Education, Federal Student Aid, 400 Maryland Avenue SW, Washington, DC 20202.

FOR FURTHER INFORMATION CONTACT: For specific questions related to collection activities, please contact Carolyn Rose, (202) 453-5967.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Federal Student Aid (FSA) Feedback System.

OMB Control Number: 1845-0141.

Type of Review: Reinstatement with change to a previously approved ICR.

Respondents/Affected Public: Individuals or Households.

Total Estimated Number of Annual Responses: 43,200.

Total Estimated Number of Annual Burden Hours: 7,344.

Abstract: This is a request for a reinstatement with change of the FSA Feedback System, OMB Control 1845-0141. On March 10, 2015, the White House issued a Student Aid Bill of Rights. Among the objectives identified was the creation of a centralized complaint and feedback system that is now resident and supported at Federal Student Aid (FSA).

The purpose of the system is to meet the objective of creating a responsive student feedback system for Feedback & Dispute Management, Borrower Defense, Risk/Fraud Management, Awareness & Outreach, and other smaller business deliveries. The solution enables customer contacts tracking and information sharing solutions that exist in a singular, centralized data management structure to resolve customer issues; to inform ongoing business decisions concerning FSA products, services, and where needed, to inform on existing, or in-progress education policies/decisions. Students and borrowers are able to ensure that their complaints and feedback will be directed to the right party. Proposed updates to the collection will allow the Department to quickly respond to issues and strengthen its efforts to protect the integrity of the student financial aid programs.

Brian Fu,
Program and Management Analyst, Office of Planning, Evaluation and Policy Development.

[FR Doc. 2025-17452 Filed 9-10-25; 8:45 am]

BILLING CODE 4000-01-P